NUCLEAR REGULATORY COMMISSION

[Docket No. 70-143; NRC-2008-0525]

Notice of the Nuclear Regulatory Commission Consent to Indirect Transfer of Control and Issuance of License Amendment to Effectuate Such Transfer for Nuclear Fuel Services, Inc., Erwin, TN

AGENCY: Nuclear Regulatory Commission.

ACTION: Notice of approval of indirect transfer of control and issuance of License Amendment to effectuate such transfer.

FOR FURTHER INFORMATION CONTACT: Kevin Ramsey, Project Manager, Fuel Manufacturing Branch, Division of Fuel Cycle Safety and Safeguards, Office of Nuclear Material Safety and Safeguards, U.S. Nuclear Regulatory Commission, Washington, DC 20555. Telephone: 301-492-3123; fax number: 301-492-3363; e-mail: Kevin.Ramsey@nrc.gov.

SUPPLEMENTARY INFORMATION: Pursuant to 10 CFR 2.106, the U.S. Nuclear Regulatory Commission (NRC) is providing notice of NRC consent to the indirect transfer of control and issuance of License Amendment 85 to Material License No. SNM-124. This action authorized the indirect transfer of control over licensed activities from NFS Services, LLC, to NOG-Erwin Holdings, Inc. NRC's receipt of the request to take this licensing action was previously noticed in the Federal Register on September 19, 2008 (73 FR 54437-54439), with a notice of an opportunity to request a hearing. No requests for a hearing were received.

By Order dated December 23, 2008, NRC approved the proposed indirect transfer. The order was accompanied by a Safety Evaluation Report (SER) documenting the basis for the NRC staff's approval. The transfer took place on December 31, 2008, on which date License Amendment 85 was issued. These actions comply with the standards and requirements of the Atomic Energy Act of 1954, as amended, and NRC's rules and regulations as set forth in 10 CFR Chapter 1.

Further Information

In accordance with 10 CFR 2.390 of the NRC's “Rules of Practice,” the details with respect to this action, including the SER and accompanying documentation, and license amendment request, are available electronically at the NRC's Electronic Reading Room at http://www.nrc.gov/reading-rm/adams.html. From this site, you can access the NRC's Agencywide Document Access and Management System (ADAMS), which provides text and image files of NRC's public documents. The ADAMS accession numbers for the documents related to this notice are:

1. NRC Order dated December. 23, 2008—ML083500508.

2. Amendment 85 to SNM-124: dated December. 31, 2008—ML083530117.

If you do not have access to ADAMS or if there are problems in accessing the documents located in ADAMS, contact the NRC Public Document Room (PDR) Reference staff at 1-800-397-4209, 301-415-4737, or via e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 9th day of February, 2009.
For the Nuclear Regulatory Commission.
Kevin M. Ramsey,
Project Manager, Fuel Manufacturing Branch, Division of Fuel Cycle Safety and Safeguards, Offfice of Nuclear Material Safety and Safeguards.

[FR Doc. E9-3752 Filed 2-20-09; 8:45 am]

BILLING CODE 7590-01-P